DEPARTMENT OF AGRICULTURE

Natural Resources Conservation Service

[Docket No. NRCS-2020-0008]

Proposed Revisions to the National Handbook of Conservation Practices for the Natural Resources Conservation Service

AGENCY: Natural Resources Conservation Service (NRCS), U.S. Department of Agriculture (USDA).

ACTION: Notice of availability; request for comment.

SUMMARY: NRCS is giving notice that it intends to issue a series of revised conservation practice standards in the National Handbook of Conservation Practices (NHCP). NRCS is also giving the public an opportunity to provide comments on specified conservation practice standards in NHCP.

DATES: We will consider comments that we receive by April 8, 2021.

ADDRESSES: We invite you to submit comments on this notice. You may submit comments through the:

• Federal eRulemaking Portal: Go to http://www.regulations.gov and search for docket ID NRCS-2020-0008. Follow the instructions for submitting comments.

• Mail, or Hand Delivery: Mr. Clarence Prestwich, National Agricultural Engineer, Conservation Engineering Division, NRCS, USDA, 1400 Independence Avenue, South Building, Room 4636, Washington, DC 20250. In your comment, specify the docket ID NRCS-2020-0008.

All comments will be available on http://www.regulations.gov.

The copies of the proposed revised standards are available through http://www.regulations.gov by accessing Docket No. NRCS-2020-0008. Alternatively, the proposed revised standards can be downloaded or printed from http://go.usa.gov/TXye.

FOR FURTHER INFORMATION CONTACT: Mr. Clarence Prestwich; telephone: (202) 720-2972; or email: clarence.prestwich@usda.gov.

SUPPLEMENTARY INFORMATION:

Background

NRCS is planning to revise the conservation practice standards in the National Handbook of Conservation Practices (NHCP). This notice provides an overview of the planned changes and gives the public an opportunity to provide comments on the specific conservation practice standards that NRCS is changing.

NRCS State Conservationists who choose to adopt these practices in their States will incorporate these practices into the respective electronic Field Office Technical Guide. These practices may be used in conservation systems that treat highly erodible land (HEL) or on land determined to be a wetland. Section 343 of the Federal Agriculture Improvement and Reform Act of 1996 requires NRCS to make available for public review and comment all proposed revisions to conservation practice standards used to carry out HEL and wetland provisions of the law.

Revisions to the National Handbook of Conservation Practices

The amount of the proposed changes varies considerably for each of the conservation practice standards addressed in this notice. To fully understand the proposed changes, individuals are encouraged to compare these changes with each standard's current version, which can be found at: http://www.nrcs.usda.gov/wps/portal/nrcs/detailfull/national/technical/cp/ncps/?cid=nrcs143_026849.

NRCS is requesting comments on the following conservation practice standards:

• Agrichemical Handling Facility (Code 309);

• Air Filtration and Scrubbing (Code 371);

• Channel Bed Stabilization (Code 584);

• Contour Orchard and Other Perennial Crops (Code 331);

• Cover Crop (Code 340);

• Dry Hydrant (Code 432);

• Dust Management for Pen Surfaces (Code 375);

• Energy Efficient Agricultural Operation (Code 374);

• Fence (Code 382);

• Grazing Land Mechanical Treatment (Code 548);

• Land Reclamation;

• Abandoned Mined Land (Code 543);

• On-Farm Secondary Containment Facility (Code 319);

• Precision Land Forming and Smoothing (Code 462);

• Recreation Land Improvement and Protection (Code 566);

• Roof Runoff Structure (Code 558);

• Sinkhole Treatment (Code 527);

• Sprinkler System (Code 442);

• Stream Crossing (Code 578);

• Waste Separation Facility (Code 632);

• Waste Transfer (Code 634);

• Wastewater Treatment—Milk House (Code 627);

• Wetland Creation (Code 658); and

• Windbreak/Shelterbelt Establishment and Renovation (Code 380).

The following are highlights of some of the proposed changes to each standard:

Agrichemical Handling Facility (Code 309): Minor revisions were made for improved organization and for clarity. Some flexible membrane liner thicknesses were changed. The minimum storage volume of the Agrichemical Handling Facility was changed to 1.1 times the volume of largest storage container within the containment area, plus the displacement volume that is occupied by all the other tanks within and below the height of the containment wall or dike.

Air Filtration and Scrubbing (Code 371): Formatting and writing style were updated to meet current agency requirements. Minor revisions were made for clarity and readability purposes and to update citations for existing references. Major changes were made to the Plans and Specifications to identify needed information and to remove requirements of supplying supporting documentation with plans and specifications.

Channel Bed Stabilization (Code 584): Minor changes were made, mostly requiring more specific channel and sedimentation information in the Plans and Specifications section.

Contour Orchard and Other Perennial Crops (Code 331): The standard was edited for clarity. Minor revisions were made for clarity and readability purposes. Definition was edited for improved explanation. Paragraphs in General Criteria and Considerations were edited for improved understanding.

Cover Crop (Code 340): Minor wording changes were made throughout for clarification. In the Purpose section, specific soil health resource concerns were added as two purpose statements on soil organic matter quantity and aggregate instability, soil organic matter quality, and habitat for soil organisms. In the General Criteria section, the reference to when cover crops are established has been better defined. One change added “no mechanically harvest of cover crops” to clarify that cover crops can be grazed but not harvested otherwise. In the Additional Criteria section, a change established criteria for grazing cover crops to improve organic matter.

Dry Hydrant (Code 432): The revised standard expands the purpose of dry hydrant to include providing access of available water for additional purposes including livestock water, small acreage irrigation, wetland management, and other purposes where water is needed in limited quantities on a periodic basis in addition to the purpose of providing access to an available water source for fire suppression. The revised standard is intended to be more flexible regarding the use of the standard and encouraging landowners to install dry hydrants to meet needs in addition to fire suppression. Criteria were divided to separately address fire suppression and other purposes. Criteria were revised to be more general.

Dust Management for Pen Surfaces (Code 375): The name of this standard has been changed from “Dust Control from Animal Activity on Open Lot Surfaces” to “Dust Management for Pen Surfaces” to reflect that it is now entirely a management standard and to simplify the name. Formatting and writing style were updated to meet current agency requirements. Specific criteria, considerations, and references to water application via solid set sprinkler systems were removed from the standard because it is now covered in Sprinkler System (Code 442). Specific criteria related to increased stocking density to supply additional moisture to the pen surface for reducing dust potential were added. New references were added, and minor revisions were made for clarity and readability purposes and to update citations for existing references.

Energy Efficient Agricultural Operation (Code 374): The standard has been revised extensively. The name has been changed from “Farmstead Energy Improvement” to “Energy Efficient Agricultural Operation” to reflect the energy efficiency purpose. The standard has been rewritten to focus on the energy efficiency criteria, fire and electrical safety, flexibility, and manufacturer's requirements. The requirement for an ASABE S612 Type 2 energy audit has been revised to allow other assessment methods. Criteria was added to support Prescriptive Upgrades to simplify and streamline implementation of some instances of the practice. Criteria was added for heat and air transfer systems and equipment.

Fence (Code 382): Formatting and writing style were updated to meet current agency requirements. Minor revisions were made for clarity and readability purposes. References were updated based on literature review.

Grazing Land Mechanical Treatment (Code 548): The definition was changed by removing the equipment listed. Added equipment list to criteria separated by soil or plant disturbances. Reduced safe slope work from 30 to 20 percent.

Land Reclamation, Abandoned Mined Land (Code 543): The criteria in Land Reclamation, Currently Mined Land (Code 544) and Land Reclamation, Toxic Discharge Control (Code 455), were added to criteria for Land Reclamation, Abandoned Mined Land to put all of the related technical criteria into one standard. The definition, purpose, and conditions where the practice applies were updated to reflect the intent of the practice. The criteria were updated to include the current environmental and personal safety laws and requirements. Plans and Specifications were updated to include the required level of detail.

On-Farm Secondary Containment Facility (Code 319): Formatting and writing style were updated to meet current agency requirements. The redundant purpose was removed since both were to protect water quality. Technical requirements were added or revised, as needed, to be consistent with other referenced codes within the standard.

Precision Land Forming and Smoothing (Code 462): The standard has been combined with CPS 466-Land Smoothing since both standards are similar in practice. Minor revisions were made. Clarity was added regarding grading plan and soil health.

Recreation Land Improvement and Protection (Code 566): CPS 566, originally titled Recreation Land Grading and Shaping, is being combined with CPS 562, Recreation Area Improvement, and renamed CPS 566, Recreation Land Improvement and Protection. Combining the two standards into a single standard makes sense logically and allows for eliminating one of the standards. The new standard retains the number Code 566, and titled, Recreation Land Improvement and Protection to better reflect the elements of the two standards being combined. CPS 562 will be archived. CPS 566 is not a standard likely to be used under NRCS administered programs, such as EQIP, but is a useful standard for Watersheds Protection and Flood Prevention Act (Pub. L. 83-566) work in those locations with the potential for development of recreational facilities.

Roof Runoff Structure (Code 558): One purpose was rewritten to remove references to foundation protection since that is not an established resource concern and now just addresses soil erosion. Minor wording changes were made to the Criteria section for clarity and specificity. Changes were made to the Additional Criteria section to Capture Water for Other Uses to address water quality for reuse of captured water and criteria modified for storage of the captured water.

Sinkhole Treatment (Code 527): The name was changed from Karst Sinkhole Treatment to Sinkhole Treatment. Safety hazard was addressed as well as minor wording changes to improve clarity.

Sprinkler System (Code 442): Formatting and writing style were updated to meet current agency requirements. Minor revisions were made for clarity and readability purposes. Updated Tables to meet current industry standards. Modified the Land Slope section to allow for pivot systems that may not meet the slope requirement but meet the run-off and application rate requirements. Added a section for Mobile Drip Irrigation (MDI). MDI is a type of irrigation that is partially sprinkler and partially drip type irrigation and it was decided that MDI criteria is more applicable to the standard.

Stream Crossing (Code 578): This standard has a few major changes including that it increases siting flexibility, and the addition of vented fords as an alternative where frequent overtopping is expected.

Waste Separation Facility (Code 632): Safety was moved to the beginning of the General Criteria section to emphasize the need for safety on all separation technologies. Wording was added to address location of the facilities and the requirement to manage the 25-year, 24-hour storm event. The sections on Separator selection and Separation efficiency were revised to reference NRCS guidance document National Engineering Handbook (NEH), Part 637, Chapter 4. Direction was added to the Storage or Treatment of Separated Solids section to design storage facilities for separated solids in accordance with the appropriate NRCS standard. A consideration on the biosecurity of separation facilities was added.

Waste Transfer (Code 634): Formatting and writing style were updated to meet current agency requirements. Minor revisions were made for clarity and readability purposes. The structural design requirements were updated to align with changes made to the National Engineering Manual. The criteria for reception pit size, pipe clean-outs and pipeline velocity were revised.

Wastewater Treatment—Milk House (Code 627): Added a new conservation practice standard developed to better address the technical complexities of treating greywater from cleaning the milking equipment. The practice standard is based on several university extension publications referenced in the standard and NRCS field experience.

Wetland Creation (Code 658): The standard revision removed soils as a purpose and added an additional purpose of creating a native plant community adapted to growth and regeneration in anerobic conditions. Establishment of hydric soil was removed as a purpose because anaerobic soil conditions is an outcome, not a purpose. The new practice standard Wildlife Habitat Planting (Code 420) is listed as appropriate for vegetative establishment when wildlife habitat is a purpose. This allows the use of Wetland Creation (Code 658) when the purpose is to establish a unique plant community without targeting a single species of wildlife or guild.

Windbreak/Shelterbelt Establishment and Renovation (Code 380): Two practice standards were combined, and Code 380 now includes windbreak renovation as well as establishment. The definition, purpose, conditions where practice applies, and considerations sections were updated. Criteria sections were added to address renovation; several other sections were moved to the Considerations section. The Plans and Specifications section were expanded to align with conservation plan requirements, and operations and maintenance sections were expanded to clarify requirements. References were added.

Terry Cosby,
Acting Chief, Natural Resources Conservation Service.

[FR Doc. 2021-05005 Filed 3-8-21; 8:45 am]

BILLING CODE 3410-16-P